DEPARTMENT OF TRANSPORTATION

Federal Aviation Administration

14 CFR Part 39

[Docket No. FAA-2010-0356; Directorate Identifier 2009-SW-72-AD; Amendment 39-16266; AD 2010-09-01]

RIN 2120-AA64

Airworthiness Directives; Eurocopter France Model AS350B, BA, B1, B2, B3, C, D, and D1; AS 355E, F, F1, F2, N, and NP Helicopters

AGENCY: Federal Aviation Administration (FAA), Department of Transportation (DOT).

ACTION: Final rule; request for comments.

SUMMARY: We are adopting a new airworthiness directive (AD) for the specified Eurocopter France (Eurocopter) model helicopters. This AD results from a mandatory continuing airworthiness information (MCAI) AD issued by the European Aviation Safety Agency (EASA), which is the Technical Agent for the Member States of the European Community. The MCAI AD was issued following the discovery of a potential risk of an untimely squib firing that would cut the hoist cable. A short circuit in the hoist motor brush power supply wiring resulting in an uncommanded squib firing, which cuts the hoist cable, constitutes an unsafe condition.

DATES: This AD becomes effective on May 14, 2010.

The incorporation by reference of Eurocopter Alert Service Bulletin No. 25.00.85 and No. 25.00.95, both dated November 16, 2005, is approved by the Director of the Federal Register as of May 14, 2010.

We must receive comments on this AD by June 28, 2010.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from American Eurocopter Corporation, 2701 Forum Drive, Grand Prairie, Texas 75053-4005, telephone (972) 641-3460, fax (972) 641-3527.

Examining the AD Docket: You may examine the AD docket on the Internet at http://www.regulations.gov or in person at the Docket Operations office between 9 a.m. and 5 p.m., Monday through Friday, except Federal holidays. The AD docket contains this AD, the economic evaluation, any comments received, and other information. The street address for the Docket Operations office (telephone (800) 647-5527) is in the ADDRESSES section. Comments will be available in the AD docket shortly after receipt.

FOR FURTHER INFORMATION CONTACT: George Schwab, Aviation Safety Engineer, FAA, Rotorcraft Directorate, Safety Management Group, Fort Worth, Texas 76193-0112, telephone (817) 222-5114, fax (817) 222-5961.

SUPPLEMENTARY INFORMATION:

Discussion

The EASA, which is the Technical Agent for the Member States of the European Community, has issued EASA AD No. 2006-0164, dated June 9, 2006, to correct an unsafe condition for these French certificated products. The MCAI AD states: “This AD is issued following the discovery of a potential risk of untimely squib firing, resulting in the cable being cut.” A short circuit in the hoist motor brush power supply wiring resulting in an uncommanded squib firing, which cuts the hoist cable, constitutes an unsafe condition. You may obtain further information by examining the MCAI AD and service information in the AD docket.

Related Service Information

Eurocopter has issued Alert Service Bulletin Nos. 25.00.85 and 25.00.95, both dated November 16, 2005. The actions described in the MCAI AD are intended to correct the same unsafe condition as that identified in the service information.

FAA's Evaluation and Unsafe Condition Determination

These helicopters have been approved by the aviation authority of France and are approved for operation in the United States. Pursuant to our bilateral agreement with France, EASA, their Technical Agent, has notified us of the unsafe condition described in the MCAI AD. We are issuing this AD because we evaluated all pertinent information and determined the unsafe condition exists and is likely to exist or develop on other products of these same type designs.

Differences Between This AD and the MCAI AD

This AD differs from the MCAI AD in that it:

• Does not include the Model BB helicopters but does include Model AS350C, D1 and AS 355 NP helicopters;

• Does not require the actions specified in the Compliance section, paragraph 1 of the MCAI AD;

• Does not address spares; and

• Requires compliance before the next hoist operation instead of within 30 days.

These differences are highlighted in the “Differences Between This AD and MCAI AD” section of this AD.

Costs of Compliance

We estimate that this AD will affect 27 helicopters of U.S. registry and that it will take about 2 work hours to modify the hoist squib wiring. The average labor rate is $85 per work-hour. Based on these figures, we estimate the cost to the fleet of helicopters to be $4,590.

FAA's Determination of the Effective Date

An unsafe condition exists that requires the immediate adoption of this AD. The FAA has found that the risk to the flying public justifies waiving notice and comment prior to adoption of this rule because of the potential of the untimely firing of a cable cutter squib on Goodrich electric hoists resulting in the unintended cutting of a cable and dropping the hoist seat and occupant. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2010-0356; Directorate Identifier 2009-SW-72-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-09-01 Eurocopter France: Amendment 39-16266. Docket No. FAA-2010-0356; Directorate Identifier 2009-SW-72-AD.

Effective Date

(a) This airworthiness directive (AD) becomes effective on May 14, 2010.

Other Affected ADs

(b) None.

Applicability

(c) This AD applies to Model AS350B, BA, B1, B2, B3, C, D and D1; and AS 355E, F, F1, F2, N, and NP helicopters with a Goodrich Electric hoist, part number (P/N) 76370-XXX, which has not been modified per Modification (MOD) 073318 and with a hoist motor other than an AUXILEC, installed, certificated in any category.

Reason

(d) The mandatory continued airworthiness (MCAI) AD was issued following the discovery of a potential risk of an untimely squib firing that would cut the hoist cable. A short circuit in the hoist motor brush power supply wiring resulting in an uncommanded squib firing, which cuts the hoist cable, constitutes an unsafe condition.

Actions and Compliance

(e) Before the next hoist operation, unless already accomplished, disconnect the ground wire for the hoist squib wiring and test the hoist system to assure that the squib can be electrically fired (MOD 073318) by following the Accomplishment Instructions, Paragraph 2.B.1. through 2.B.4., of Eurocopter Alert Service Bulletin (ASB) No. 25.00.95, for the AS350 model helicopters or ASB No. 25.00.85, for the AS355 model helicopters, both dated November 16, 2005, as appropriate for your model helicopter.

Differences Between This AD and the MCAI AD

(f) This AD differs from the MCAI AD in that it:

(1) Does not include the Model BB helicopters but does include the Model AS350C and D1 and Model AS355NP helicopters;

(2) Does not require the actions specified in the Compliance section, paragraph 1 of the MCAI AD;

(3) Does not address spares; and

(4) Requires compliance before the next hoist operation instead of within 30 days.

Other Information

(g) Alternative Methods of Compliance (AMOCs): The Manager, Safety Management Group, FAA, ATTN: George Schwab, Aerospace Engineer, Rotorcraft Directorate, Fort Worth, Texas 76193-0112, telephone (817) 222-5114, fax (817) 222-5961, has the authority to approve AMOCs for this AD, if requested, using the procedures found in 14 CFR 39.19.

(h) Special Flight Permits: Special flight permits may be issued under 14 CFR 21.197 and 21.199 to operate the helicopter to a location where the requirements of this AD can be done provided that the hoist is not used.

Related Information

(i) Mandatory Continuing Airworthiness Information (EASA) Airworthiness Directive No. 2006-0164, dated June 9, 2006, contains related information.

Joint Aircraft System/Component (JASC) Code

(j) The JASC Code is 25: Equipment/Furnishings.

Material Incorporated by Reference

(k) You must use the specified portions of Eurocopter Alert Service Bulletin No. 25.00.95 or No. 25.00.85, both dated November 16, 2005, to do the actions required.

(1) The Director of the Federal Register approved the incorporation by reference of this service information under 5 U.S.C. 552(a) and 1 CFR part 51.

(2) For the service information identified in this AD, contact American Eurocopter Corporation, 2701 Forum Drive, Grand Prairie, Texas 75053-4005, telephone (972) 641-3460, fax (972) 641-3527.

(3) You may review copies of the service information at the FAA, Office of the Regional Counsel, Southwest Region, 2601 Meacham Blvd., Room 663, Fort Worth, Texas, or at the National Archives and Records Administration (NARA). For information on the availability of this material at NARA, call (202) 741-6030, or go to: http://www.archives.gov/federal-register/cfr/ibr-locations.html.

Issued in Fort Worth, Texas, on March 15, 2010.
Mark R. Schilling,
Acting Manager, Rotorcraft Directorate, Aircraft Certification Service.

[FR Doc. 2010-9006 Filed 4-28-10; 8:45 am]

BILLING CODE 4910-13-P